DEPARTMENT OF HOUSING AND URBAN DEVELOPMENT

[Docket No. FR-5123-N-09]

Notice of Proposed Information Collection for Public Comment on the Final Evaluation of the Moving to Opportunity Program

AGENCY: Office of the Policy Development and Research, HUD.

ACTION: Notice.

SUMMARY: The proposed information collection requirement described below will be submitted to the Office of Management and Budget (OMB) for review, as required by the Paperwork Reduction Act. The Department is soliciting public comments on the subject proposal.

DATES: Comments Due Date: June 4, 2007.

ADDRESSES: Interested persons are invited to submit comments regarding this proposal. Comments should refer to the proposal by name and/or OMB Control Number and should be sent to: Reports Liaison Officer, Office of Policy Development and Research, Department of Housing and Urban Development, 451 7th Street, SW., Room 8234, Washington, DC 20410.

FOR FURTHER INFORMATION CONTACT: Todd M. Richardson, Program Evaluation Division, Policy Development and Research, Department of Housing and Urban Development, 451 7th Street, SW., Room 8140, Washington, DC 20410-5000. Call (202) 402-5706 (this is not a toll-free number) or Todd_Richardson@HUD.GOV for copies of the proposed forms and other available documents.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice also lists the following information:

Title of Proposal: Final Evaluation of the Moving to Opportunity (MTO) Program.

Description of the need for the information and proposed use: This request is for the clearance of several survey instruments for the Final Evaluation of the Moving to Opportunity (MTO) demonstration program. Authorized by Congress in the Housing and Community Development Act of 1992, MTO is a unique experimental research demonstration designed to learn whether moving from a high-poverty neighborhood to a low-poverty neighborhood significantly improves the social and economic prospects of poor families. Families living in high poverty public and assisted housing in Baltimore, Boston, Chicago, Los Angeles and New York who applied for MTO were randomly assigned into two treatment groups and one control group between 1994 and 1998. Families assigned to the treatment groups were provided Section 8 to allow them to move out of the high poverty developments. Families in one of the treatment groups received intensive mobility counseling and were required to lease a unit in a neighborhood with less than ten percent poverty. The other treatment group families could lease a unit wherever they chose, but only received the normal housing authority counseling. Those families assigned to the control group did not receive any Section 8 assistance but continued to receive project-based assistance.

This data collection is necessary to measure impacts and mediators approximately 10 to 14 years after families were randomly assigned to the two treatment groups and the control group. The data are planned to be collected for the following primary outcome domains: housing mobility and assistance; neighborhoods and social networks, adult education, employment and earnings; household income and cash assistance; adult, youth, and child physical and mental health; youth and child emotional and social well-being, including delinquency and risky behavior; and youth and child educational performance.

Interviews are estimated to be completed for 3,900 adult heads of household using the adult interview guide and approximately 5,800 youth between the ages of 10 and 20 using the youth interview guide. The youth and children noted above will be administered a math and reading achievement assessment. Subject to final decisions by the research team and HUD, as well as Institutional Review Board approval, the interviews will also include collection of biomarker data via finger pricks to obtain dried blood spots of MTO participants. All interviewers and testing will be conducted in-person or on the telephone by interviewers using computer-assisted personal interviewing (CAPI) or computer-assisted telephone interviewing software to directly input the data into a computer. Incentive payments will be made to respondents participating in this survey in order to ensure a high response rate. Data gathered will be used by the National Bureau of Economic Research to prepare a report to HUD on the long-term impacts of MTO. Subject to maintaining the privacy and confidentiality of respondents, the data collected will also be used by academics and HUD policy analysts to further explore what specific neighborhood mediating factors contribute to the neighborhood impact on outcomes for families and children. The information will be used by HUD and Congress to guide future housing policy in many areas, including housing mobility assistance and the location and concentration of assisted housing.

OMB Control Number: Pending approval.

Agency form numbers: None.

Members of Affected Public: Individuals and Households.

Estimation of the total number of hours needed to prepare the information collection including number of respondents, frequency of response, and hours of response: 3,900 adults at 75 minutes; 5,800 youth with 45 minute survey and 45 minute achievement test. One-time response, total 12,910 reporting burden hours.

Status of the proposed information collection: New.

Authority: Section 3506 of the Paperwork Reduction Act of 1995, 44 U.S.C. Chapter 35, as amended.

Dated: March 29, 2007.
Darlene F. Williams,
Assistant Secretary for Policy Development and Research.

[FR Doc. E7-6227 Filed 4-3-07; 8:45 am]

BILLING CODE 4210-67-P